DEPARTMENT OF THE INTERIOR

Bureau of Land Management

[LLORN01000.L63100000.HD0000.17XL111AF.HAG 17-0096]

Closure on Public Lands of Yellowstone Bridge in Linn County, OR

AGENCY: Bureau of Land Management, Interior.

ACTION: Notice of closure.

SUMMARY: Notice is hereby given that a closure of the Yellowstone Bridge to motorized vehicles is in effect on public lands administered by the Cascades Field Office, Bureau of Land Management (BLM).

DATES: This closure will be in effect up to 2 years beginning August 16, 2017.

ADDRESSES: The closure notice and map of the affected area will be posted at the BLM Northwest Oregon District Office, 1717 Fabry Road, Salem, Oregon, 97306, and the project ePlanning Web site: https://eplanning.blm.gov/epl-front-office/eplanning/nepa/nepa_register.do.

FOR FURTHER INFORMATION CONTACT: Field Manager, John Huston, Cascades Field Office, BLM Northwest Oregon District Office, 1717 Fabry Road, Salem, OR 97306, telephone (503) 315-5969 or jhuston@blm.gov.

Persons who use a telecommunications device for the deaf (TDD) may call the Federal Relay Service at 1-800-877-8339 to contact the above individual during normal business hours. The FRS is available 24 hours a day, 7 days a week, to leave a message or question for the above individual. You will receive a reply during normal business hours.

SUPPLEMENTARY INFORMATION: This closure affects public lands at Yellowstone Creek, Linn County, Oregon.

The public lands affected by this closure are described as follows: BLM road 11-3-27.1, Willamette Meridian, Oregon, T. 11S., R. 3E., Sec. 27 SW¼ SE¼.

The temporary closure is necessary to ensure public safety due to findings of bridge instability. The closure is necessary for up to 2 years to develop an engineering remediation plan, and secure funding. Closing of the bridge will not restrict access to public lands as alternate routes are available.

The BLM will position vehicle barriers on each side of the bridge and post closure signs. The closure order is issued under the authority of 43 CFR 8364.1, which allows the BLM to establish closures for the protection of persons, property, and public lands and resources. Violation of any of the terms, conditions, or restrictions contained within this closure order may subject the violator to citation or arrest with a penalty or fine or imprisonment or both as specified by law.

The temporary closure is in conformance with the 2016 Northwestern and Coastal Oregon Record of Decision and Resource Management Plan. The temporary closure has been reviewed under Categorical Exclusion DOI-BLM-ORWA-N010-2017-0012, which can be viewed at the project ePlanning page identified above. Under the authority of Section 303(a) of the Federal Land Policy and Management Act of 1976 (43 U.S.C. 1733(a)), 43 CFR 8360.0-7, and 43 CFR 8364.1, the BLM will enforce the following closure within the Yellowstone Creek area.

Closure: During the temporary closure, motorized vehicles and use of motorized equipment is prohibited on Yellowstone Bridge. Pedestrian and bicycle use is allowed.

Exceptions: There are no exemptions for motorized vehicle use across the bridge.

Penalties: Any person who violates this closure or these restrictions may be tried before a United States Magistrate and fined in accordance with 18 U.S.C. 3571, imprisoned no more than 12 months under 43 U.S.C. 1733(a) and 43 CFR 8360.07, or both. In accordance with 43 CFR 8365.1-7, state or local officials may also impose penalties for violations of Oregon law.

John Huston,
Field Manager, Cascades Field Office.

[FR Doc. 2017-17324 Filed 8-15-17; 8:45 am]

BILLING CODE 4310-33-P